DEPARTMENT OF COMMERCE

National Oceanic and Atmospheric Administration

Agency Information Collection Activities; Submission to the Office of Management and Budget (OMB) for Review and Approval; Comment Request; Submission of Conservation Efforts To Make Listings Unnecessary Under the Endangered Species Act

AGENCY: National Oceanic and Atmospheric Administration (NOAA), Commerce.

ACTION: Notice of Information Collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of a request for extension of a currently approved information collection to the Office of Management and Budget (OMB).

DATES: To ensure consideration, comments regarding this proposed extension of an information collection must be received on or before November 22, 2021.

ADDRESSES: Interested persons are invited to submit written comments to Adrienne Thomas, NOAA PRA Officer, at Adrienne.thomas@noaa.gov. Please reference OMB Control Number 0648-0466 in the subject line of your comments. Do not submit Confidential Business Information or otherwise sensitive or protected information.

FOR FURTHER INFORMATION CONTACT: Requests for additional information or specific questions related to collection activities should be directed to Lisa Manning, National Marine Fisheries Service at 301-427-8466 or Lisa.Manning@noaa.gov.

SUPPLEMENTARY INFORMATION:

I. Abstract

The National Marine Fisheries Service (NMFS), Office of Protected Resources, is sponsoring a request for extension of a currently approved information collection.

Under the Endangered Species Act (ESA), determinations whether to list species as endangered or threatened must be based on the best scientific and commercial data available, including consideration of those efforts, if any, being made by any state or foreign nation (or any of their political subdivisions) to protect the particular species. On March 28, 2003, NMFS and the U.S. Fish and Wildlife Service (the “Services”) announced a final policy on the criteria the Services will use to evaluate certain conservation efforts by states, tribes, and other non-federal entities when making listing determinations under the ESA (68 FR 15100). The conservation efforts usually involve the development of a conservation plan or agreement, procedures for monitoring the effectiveness of the plan or agreement, and an annual report.

The development of conservation plans could prevent some species from becoming so imperiled that the only recourse is to add them to the list of threatened and endangered species under the Endangered Species Act. The purpose of this policy is to encourage such plans and to give applicants guidance about how NMFSs will evaluate such plans. This policy identifies criteria for evaluating the certainty of implementation and effectiveness of a conservation effort. NMFS developed this policy to ensure consistent and adequate evaluation of agreements and plans in making listing decisions and to help States and other entities develop agreements and plans that will be adequate to make listing species unnecessary.

II. Method of Collection

NMFS does not require, but does accept, conservation plans and reports electronically. NMFS has not developed a form to be used for submission of plans or reports. In the past, NMFS has made plans and annual reports from states available through the internet and plans to continue this practice.

III. Data

OMB Control Number: 0648-0466.

Form Number(s): None.

Type of Review: Regular submission (extension of a currently approved information collection).

Affected Public: Business or other for-profit organizations; State, local or tribal governments.

Estimated Number of Respondents: 1.

Estimated Time per Response: 2,500 hours to complete each agreement or plan that has the intention of making listing unnecessary; 320 hours to conduct monitoring for successful agreements; and 80 hours to prepare a report for successful agreements.

Estimated Total Annual Burden Hours: 3,300.

Estimated Total Annual Cost to Public: $150.

Respondent's Obligation: Voluntary.

Legal Authority: ESA (16 U.S.C. 1533).

IV. Request for Comments

We are soliciting public comments to permit NMFS to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-20488 Filed 9-21-21; 8:45 am]

BILLING CODE 3510-22-P